DEPARTMENT OF JUSTICE

Antitrust Division

Notice Pursuant to The National Cooperative Research and Production Act of 1993—National Electronics Manufacturing Initiative, Inc. (“NEMI”)

Notice is hereby given that, on April 23, 2004, pursuant to Section 6(a) of the National Cooperative Research and Production Act of 1993, 15 U.S.C. 4301 et seq. (“the Act”), National Electronics Manufacturing Initiative, Inc. (“NEMI”) has filed written notifications simultaneously with the Attorney General and the Federal Trade Commission disclosing changes in its membership status. The notifications were filed for the purpose of extending the Act's provisions limiting the recovery of antitrust plaintiffs to actual damages under specified circumstances. Specifically, Centor Software, Irvine, CA; Cisco Systems Inc., San Jose, CA; Dell, Inc., Round Rock, TX; Endicott Interconnect Technologies (E.I.T.), Endicott, NY; Foxconn, Houston TX; Massachusetts Institute of Technology (M.I.T.), Cambridge, MA; MatrixOne, Inc., Westford, MA; Microsoft, Redmond, WA; Senju Comtek Corporation, San Jose, CA; Speedline Technologies, Foxboro, MA; and Tyco Corporation, Middletown, PA have been added as parties to this venture.

Also, 3SAE Technologies, Inc., Nashville, TN; Aerotech World Trade; Ltd., Westlake Village, CA; ChipPAC, Fremont, CA; Cimetrix, Inc., Salt Lake City, UT; CTS Corporation, Elkhart, IN; GSI Lumonics, Northville, MI; iManage, Inc., San Mateo, CA; IONA Technologies, Santa Clara, CA; Kasaria Corporation, Wilmington, MA; KIC Thermal Profiling, San Diego, CA; Henkel Loctite Corporation, Rocky Hill, CT; Peregrine Systems, Inc., Belmont, CA; and Tecnomatrix Unicam, Inc., Portsmouth, NH have been dropped as parties to this venture. The following members have changed their names: Delphi Corporation to Delphi Electronics & Safety, Kokomo, IN; and Shipley Company to Rohm and Haas Electronics Materials, Freeport, NY.

No other changes have been made in either the membership or planned activity of the group research project. Membership in this group research project remains open, and National Electronics Manufacturing Initiatives, Inc. (“NEMI”) intends to file additional written notification disclosing all changes in membership.

On June 6, 1996, National Electronics Manufacturing Initiative, Inc. (“MENI”) filed its original notification pursuant to Section 6(a) of the Act. The Department of Justice published a notice in the Federal Register pursuant to Section 6(b) of the Act on June 28, 1996 (61 FR 33774).

The last notification was filed with the Department on December 30, 2002. A notice was published in the Federal Register pursuant to Section 6(b) of the Act on January 23, 2003 (68 FR 3273).

Dorothy B. Fountain,
Deputy Director of Operations Antitrust Division.

[FR Doc. 04-11804 Filed 5-24-04; 8:45 am]

BILLING CODE 4410-11-M